DEPARTMENT OF EDUCATION

[Docket No.: ED-2025-SCC-0004]

Agency Information Collection Activities; Submission to the Office of Management and Budget for Review and Approval; Comment Request; Best Interest Determination—Prison Education Program

AGENCY: Federal Student Aid (FSA), Department of Education (ED).

ACTION: Notice.

SUMMARY: In accordance with the Paperwork Reduction Act (PRA) of 1995, the Department is proposing a new information collection request (ICR).

DATES: Interested persons are invited to submit comments on or before September 8, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carolyn Rose, (202) 453-5967.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Best Interest Determination—Prison Education Program.

OMB Control Number: 1845-NEW.

Type of Review: New ICR.

Respondents/Affected Public: Private Sector; State, Local, and Tribal Governments.

Total Estimated Number of Annual Responses: 1,000.

Total Estimated Number of Annual Burden Hours: 6,000.

Abstract: The Prison Education Program (PEP) is authorized under section 484(t) of the Higher Education Act of 1965, as amended (HEA) with the requirements for participation outlined in 34 CFR 668, Subpart P, effective July 1, 2023. The regulatory requirements are for a school to offer a PEP to confined or incarcerated individuals. This is a request for a new information collection to develop a form for Oversight Entities to have a mechanism to report the Best Interest Determination for every PEP under their jurisdiction as required under 34 CFR 668.241. This is an optional form which includes the required elements and is being offered for ease of reporting by the appropriate Oversight Entities. Oversight Entities include the appropriate State department of corrections or other entity responsible for overseeing correctional facilities or the Federal Bureau of Prisons. Once completed by the Oversight Entities, the report is forwarded to the institution which in turn will file the report with the Department of Education.

Ross Santy,
Chief Data Officer, Office of Planning, Evaluation and Policy Development.

[FR Doc. 2025-15114 Filed 8-7-25; 8:45 am]

BILLING CODE 4000-01-P